DEPARTMENT OF JUSTICE

Delegation of Authority to the Principal Deputy Assistant Attorney General for the Civil Division

AGENCY: Department of Justice.

ACTION: Notice.

SUMMARY: On November 9, 2012, the Attorney General issued Attorney General Order No. 3350-2012, which delegates all of the power and authority of the Assistant Attorney General for the Civil Division to the Principal Deputy Assistant Attorney General for the Civil Division, unless any such power or authority is required by law to be exercised by the Assistant Attorney General for the Civil Division personally. With this delegation, the Assistant Attorney General for the Civil Division and the Principal Deputy Assistant Attorney General for the Civil Division will each, concurrently, have the same set of delegated powers.

DATES: Attorney General Order No. 3350-2012 became effective November 9, 2012.

FOR FURTHER INFORMATION CONTACT: Rosemary Hart, Special Counsel, Office of Legal Counsel, Department of Justice, Washington, DC 20530; (202) 514-2027.

SUPPLEMENTARY INFORMATION: Pursuant to 28 U.S.C. 509, “[a]ll functions of other officers of the Department of Justice and all functions of agencies and employees of the Department of Justice are vested in the Attorney General” but for exceptions not applicable here. Pursuant to 28 U.S.C. § 510, the Attorney General has broad authority to “authorize[e] the performance by any other officer, employee, or agency of the Department of Justice of any function of the Attorney General.” Various powers and authorities have been delegated to the Assistant Attorney General for the Civil Division. See, e.g., 28 CFR Ch. I, Pt. 0, Subpts. I, Y, App. to Subpt. Y; 28 CFR 15.4. This most recent delegation ensures that the Assistant Attorney General for the Civil Division and the Principal Deputy Assistant Attorney General for the Civil Division will each, concurrently, have the same set of delegated powers, thereby enhancing efficient management of Civil Division operations.

The delegation order is a matter of internal Department management. Accordingly, the requirements under the Administrative Procedure Act for notice and comment and a delay in effective date are not applicable. See 5 U.S.C. 553. Although publication is not required, the Department has chosen to publish this notice to advise the public of this recent delegation.

The order is not a “significant regulatory action” under section 3(f) of Executive Order 12866 and accordingly it has not been reviewed by the Office of Management and Budget. In addition, the order will not have a significant economic impact on a substantial number of small entities. See 5 U.S.C. 605(b). Nor will it have substantial direct effects on the states, on the relationship between the national government and the states, or on the distribution of power and responsibilities among the various levels of government. Therefore, this order does not have sufficient federalism implications to warrant the preparation of a Federalism Assessment pursuant to Executive Order 13132.

Attorney General Order 3350-2012 reads as follows:

“By virtue of the authority vested in me by law, including 28 U.S.C. §§ 509 and 510, I hereby delegate to the Principal Deputy Assistant Attorney General for the Civil Division all the power and authority of the Assistant Attorney General for the Civil Division, unless any such power or authority is required by law to be exercised by the Assistant Attorney General for the Civil Division personally.”

Dated: November 13, 2012.
Rosemary Hart,
Special Counsel.

[FR Doc. 2012-27942 Filed 11-15-12; 8:45 am]

BILLING CODE 4410-12-P